LIBRARY OF CONGRESS

Copyright Office

Soliciting Participation in Electronic Copyright Office (eCO) Beta Test

AGENCY: Copyright Office, Library of Congress.

ACTION: Public notice.

SUMMARY: In July 2007, the Copyright Office will initiate a beta testing phase in the development of its automated registration system, electronic Copyright Office (eCO). Requests to participate in eCO beta testing are being accepted from the public at this time. Participants will be selected in the order that requests are received and based on an array of submission criteria, and basic registration claims will be accepted at a reduced rate established for electronic filings.

DATES: Requests for participation in the beta test of the Copyright Office‘s online registration system are being accepted through the Office’s Web site beginning June 1, 2007.

ADDRESSES: Requests to participate in the beta test of the Copyright Office‘s electronic online registration system may be filed through the Office’s Web site at: http://www.copyright.gov/eco/beta-request.html.

FOR FURTHER INFORMATION CONTACT: David Christopher, Special Assistant to the Register of Copyrights, Office of the Register, P.O. Box 70977, Southwest Station, Washington, DC 20024-0977. Telephone: (202) 707-8825. Telefax: (202) 707-8366.

SUPPLEMENTARY INFORMATION:

Background

The Copyright Office is a service unit within the Library of Congress. The mission of the Copyright Office is to promote creativity by administering and sustaining an effective national copyright system that relies on the collection, processing, storage and dissemination of information to fulfill its duties under title 17 of the United States Code and title 37 of the Code of Federal Regulations. Congress enacted the first federal copyright law in 1790 and it has been revised periodically over the years.

In 1870 Congress established a national copyright function in the Library of Congress and required that all works be deposited and registered in this single location. The registration and deposit of works under copyright protection serves two important purposes: to create a public record of copyright registration and to enrich the collections of the Library of Congress for the benefit of the American people. The Copyright Office administers the copyright law by registering claims to copyright, recording legal documents relating to copyright ownership (i.e., recordation), acquiring copyrighted works for deposit in the collections of the Library of Congress, and handling administrative provisions of statutory licenses and obligations. The Copyright Office provides authoritative advice on copyright to the Congress and the Executive Branch, and the judiciary, and serves as a resource to the domestic and international communities. The Office responds to public requests for information and engages in outreach programs to contribute to the public discussion of copyright issues.

Processing systems

The Copyright Office has operated in essentially the same manner for many years and is primarily a paper-based operation. Most remitters submit paper applications for copyright registration and paper documents for recordation. Correspondence is also produced primarily on paper and stored in paper files. Works submitted for registration are often bulky and contain multiple items. Currently, materials submitted for registration move through several different divisions without the benefit of tracking systems to identify the location of each individual work during its processing.

The Copyright Office has six principal office-wide systems that are used for workflow management: fee processing, correspondence tracking, imaging, statutory license information, historical copyright information, and electronic receipts. There are some automated interfaces between the systems, but the systems are not integrated with each other or with other related Library of Congress processes. Numerous small PC-based systems have also been developed to track many transactions that the larger systems were not designed to support. Some systems rely on hardware that is aging and increasingly vulnerable to failure.

Business process reengineering (BPR)

Recognizing that information technology provides new opportunities to improve public services and enable online submissions for copyright registration and other services, the Copyright Office embarked on an extensive multi-year reengineering initiative in September 2000. There are eight major objectives of the reengineering program: to enhance operational efficiencies and improve timeliness of Copyright Office services; provide public services online; ensure prompt availability of new copyright records; provide better tracking of individual items in the workflow; increase acquisition of digital works for the Library of Congress collections; contain costs of registration, recordation, and other services; strengthen security within the Copyright Office; and use staff and space efficiently.

The foundation of the reengineering initiative is the redesigned business processes that deliver the Office’s services to the public in key areas. The following principal processes have been redesigned:

1. The Acquire Deposit process includes the acquisition of published materials requested by the Library of Congress and the receipt of published works submitted in compliance with the mandatory deposit provision of the copyright law.

2. The Answer Request process includes all activities to respond to requests for information or materials related to copyright records.

3. The Maintain Accounts process handles all money and financial transactions for the principal processes. This process includes transactions within deposit accounts which are standing accounts from which customers can draw funds to pay for services.

4. Process Licenses supports the administration of the compulsory licenses and statutory obligations contained in the Copyright Act. For certain licenses, the Copyright Office collects specified royalty fees for disbursement to copyright owners.

5. The Receive Mail process comprises the activities of sorting incoming mail, labeling materials with tracking numbers, scanning paper materials, creating electronic tracking records, and dispatching materials to the appropriate service process area.

6. The Record Document process handles the verification, cataloging, and production of certificates for documents relating to a copyright that are submitted for recordation in the Office.

7. The Register Claim process includes the examination, cataloging, and certificate production for copyright claims. A claim includes an application, fee, and copies of the work as required. When a work is registered, a certificate of registration is issued to the applicant.

Additionally, as part of BPR implementation, the Copyright Office designed the to-be organizational environment to support the redesigned processes. The redesigned processes, organization, facilities, and information systems infrastructure will enable the Copyright Office to make a strategic transformation to electronic delivery of services while maintaining the capability of processing hard copy objects within the electronic environment. The Copyright Office will be able to conduct business and public services online whenever possible, scan and make searchable all non-electronic receipts, route and control all business with flexible process workflows, and make works published only electronically available to the Library of Congress.

Electronic Copyright Office (eCO)

The Copyright Office plans to implement parts of its multi-year business process reengineering (BPR) initiative later this year. A major objective of the BPR initiative is to increase the availability of Copyright Office services online. This objective will be met through the introduction of an automated registration system, electronic Copyright Office (eCO), which is scheduled for release to the public later this year. Currently in the alpha testing phase of development, eCO will allow users to submit applications, deposits, and fees electronically through a portal on the Copyright Office Web site. In addition to reducing processing time lags and operational costs in the long term, eCO will provide for a streamlined application experience for users. As a further incentive to applicants the Copyright Office will offer a reduced filing fee for claims registered electronically.

eCO Beta Test for registration of claims

Notice is hereby given that in July 2007, the Copyright Office plans to initiate beta testing for the electronic registration of claims. Requests to participate in eCO beta testing are being accepted from the public and a broad array of applicants will be selected in the order that requests are received and based on the criteria listed below.

• Type of work;

• Type of deposit copy;

• File format (electronic deposit copies);

• File size (electronic deposit copies);

• Frequency of registration;

• Published versus unpublished works;

• Individual versus company/organization; and

• Type of payment.

Initially, eCO beta testing will cover basic registration claims for literary works (e.g., books, single serial issues, manuscripts, contributions to collective works, compilations of data or other literary subject matter, etc.), visual arts works (e.g., artwork applied to clothing, cartographic works, cartoons, comic strips, drawings, paintings, fabric, and architectural drawings or plans, etc.), performing arts works (i.e., musical works, including any accompanying words; dramatic works, such as scripts, including any accompanying music; choreographic works; and motion pictures and other audiovisual works), and sound recordings (i.e., works that result from the fixation of a series of musical, spoken, or other sounds, but not including the sounds accompanying a motion picture or other audiovisual work). At a later date, system testing will expand to cover additional registration claim types including group registrations, vessel hull designs, mask works, renewals, and corrections and amplifications of existing registrations. Participants in eCO beta testing will be invited to file basic registration claims online at the rate established for electronic filings, $35.

A notice announcing eCO beta testing has been posted to the Copyright Office Web site at http://www.copyright.gov/eco/beta-announce.html. The notice directs interested parties to submit a request to participate in eCO beta testing via a short Web-based form accessible at http://www.copyright.gov/eco/beta-request.html. The first group of selected participants will receive eCO system log-in information and instructions via email prior to the beta test launch date. Additional requesters will be invited to participate in later stages of eCO beta testing. Requesters not selected for eCO beta testing will receive email notification when eCO is released to the public later this year.

Dated: May 29, 2007
Marybeth Peters,
Register of Copyrights.

[FR Doc. E7-10623 Filed 5-31-07; 8:45 am]

BILLING CODE 1410-30-S